DEPARTMENT OF COMMERCE

National Oceanic and Atmospheric Administration

National Estuarine Research Reserve System

AGENCY: Stewardship Division, Office for Coastal Management, National Ocean Service, National Oceanic and Atmospheric Administration, U.S. Department of Commerce.

ACTION: Notice of public comment period for the San Francisco Bay, California National Estuarine Research Reserve management plan revision.

SUMMARY: Notice is hereby given that the Stewardship Division, Office for Coastal Management, National Ocean Service, National Oceanic and Atmospheric Administration, U.S. Department of Commerce is announcing a thirty (30) day public comment period for the revised management plan for San Francisco Bay, California National Estuarine Research Reserve management plan revision.

SUPPLEMENTARY INFORMATION: Pursuant to 15 CFR 921.33(c), a state must periodically update their management plan for a National Estuarine Research Reserve. The San Francisco Bay Reserve revised plan will replace the plan previously approved in 2010. NOAA issues this notice of a public comment period for the revised plan under 15 CFR 921.33 (a).

The revised management plan outlines a strategic plan; administrative structure; research and monitoring, education, stewardship, wetland science and training programs of the reserve; resource protection and manipulation plans, restoration management plan; public access and visitor use plan; considerations for future land acquisition; and facility development to support reserve operations.

The San Francisco Bay Reserve takes an integrated approach to management, linking research, education, coastal training, and resource management functions. The reserve has outlined how it will manage administration and its core programs, providing detailed actions that will enable it to accomplish specific goals and objectives. Since the last management plan, the reserve has built out its core research programs and monitoring infrastructure; conducted an educational market analysis and needs assessment to understand current needs of teachers and underserved audiences; updated the coastal training program strategy and expanded the program partnerships, expanded stewardship program and developed resource management plans.

There will be no boundary change with the approval of the revised management plan. The management plan will serve as the guiding document for the 3,710-acre San Francisco Bay Reserve.

View the San Francisco Bay Reserve management plan revision on their website, at http://www.sfbaynerr.org/resource-library/reserve-plans-reports/sf-bay-nerr-managment-plan_oct-25/, and provide comments to Christine Metzger, christinemetzger@sfsu.edu.

FOR FURTHER INFORMATION CONTACT: Bree Turner at (206) 526-4641 or Kimberly Texeira at (240) 533-0722 of NOAA's National Ocean Service, Stewardship Division, Office for Coastal Management, 1305 East-West Highway, N/ORM5, 10th floor, Silver Spring, MD 20910.

Dated: November 30, 2017.
Keelin Kuipers,
Acting Deputy Director, Office for Coastal Management, National Ocean Service, National Oceanic and Atmospheric Administration.

[FR Doc. 2017-27514 Filed 12-20-17; 8:45 am]

BILLING CODE 3510-08-P